DEPARTMENT OF TRANSPORTATION

Federal Aviation Administration

14 CFR Part 39

[Docket No. FAA-2010-1011; Directorate Identifier 2010-CE-047-AD]

RIN 2120-AA64

Airworthiness Directives; Pilatus Aircraft Ltd. Models PC-6, PC-6-H1, PC-6-H2, PC-6/350, PC-6/350-H1, PC-6/350-H2, PC-6/A, PC-6/A-H1, PC-6/A-H2, PC-6/B-H2, PC-6/B1-H2, PC-6/B2-H2, PC-6/B2-H4, PC-6/C-H2, and PC-6/C1-H2 Airplanes

AGENCY: Federal Aviation Administration (FAA), Department of Transportation (DOT).

ACTION: Notice of proposed rulemaking (NPRM).

SUMMARY: We propose to adopt a new airworthiness directive (AD) for the products listed above that would supersede an existing AD. This proposed AD results from mandatory continuing airworthiness information (MCAI) originated by an aviation authority of another country to identify and correct an unsafe condition on an aviation product. The MCAI describes the unsafe condition as:

The current Aircraft Maintenance Manual (AMM) of PC-6 B2-H2 and B2-H4 models does not include a Chapter 04 in the Airworthiness Limitations Section (ALS). For PC-6 models other than B2-H2 and B2-H4, no ALS at all is included in the AMM.

With the latest Revision 12 of the AMM, a new Chapter 04 has been introduced in the AMM for PC-6 B2-H2 and B2-H4 models.

For PC-6 models other than B2-H2 and B2-H4, a new ALS document has been implemented as well.

These documents include the Mandatory Continuing Airworthiness Information (MCAI) which are maintenance requirements and/or airworthiness limitations developed by Pilatus Aircraft Ltd and approved by EASA. Failure to comply with these MCAI constitutes an unsafe condition.

The proposed AD would require actions that are intended to address the unsafe condition described in the MCAI.

DATES: We must receive comments on this proposed AD by November 22, 2010.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (telephone (800) 647-5527) is in the ADDRESSES section. Comments will be available in the AD docket shortly after receipt.

FOR FURTHER INFORMATION CONTACT: Doug Rudolph, Aerospace Engineer, FAA, Small Airplane Directorate, 901 Locust, Room 301, Kansas City, Missouri 64106; telephone: (816) 329-4059; fax: (816) 329-4090.

SUPPLEMENTARY INFORMATION:

Comments Invited

We invite you to send any written relevant data, views, or arguments about this proposed AD. Send your comments to an address listed under the ADDRESSES section. Include “Docket No. FAA-2010-1011; Directorate Identifier 2010-CE-047-AD” at the beginning of your comments. We specifically invite comments on the overall regulatory, economic, environmental, and energy aspects of this proposed AD. We will consider all comments received by the closing date and may amend this proposed AD because of those comments.

We will post all comments we receive, without change, to http://regulations.gov, including any personal information you provide. We will also post a report summarizing each substantive verbal contact we receive about this proposed AD.

Discussion

On August 8, 2005, we issued AD 2005-17-01, Amendment 39-14221 (70 FR 47716; August 15, 2005). This AD required actions intended to address an unsafe condition on the products listed above.

Since we issued AD 2005-17-01, Pilatus has updated their maintenance programs with new requirements and limitations. The AMM revisions proposed in this AD action include the repetitive inspections for the wing strut fittings and the spherical bearings currently included in AD 2009-18-03. We are also proposing to remove those repetitive inspections from AD 2009-18-03.

The European Aviation Safety Agency (EASA), which is the Technical Agent for the Member States of the European Community, has issued EASA AD No.: 2010-0176, dated August 20, 2010 (referred to after this as “the MCAI”), to correct an unsafe condition for the specified products. The MCAI states:

The current Aircraft Maintenance Manual (AMM) of PC-6 B2-H2 and B2-H4 models does not include a Chapter 04 in the Airworthiness Limitations Section (ALS). For PC-6 models other than B2-H2 and B2-H4, no ALS at all is included in the AMM.

With the latest Revision 12 of the AMM, a new Chapter 04 has been introduced in the AMM for PC-6 B2-H2 and B2-H4 models.

For PC-6 models other than B2-H2 and B2-H4, a new ALS document has been implemented as well.

These documents include the Mandatory Continuing Airworthiness Information (MCAI) which are maintenance requirements and/or airworthiness limitations developed by Pilatus Aircraft Ltd and approved by EASA. Failure to comply with these MCAI constitutes an unsafe condition.

For the reasons described above, this AD requires the implementation and the compliance with these new maintenance requirements and/or airworthiness limitations documents.

You may obtain further information by examining the MCAI in the AD docket.

Relevant Service Information

Pilatus Aircraft Limited has issued Pilatus PC-6 Aircraft Maintenance Manual (AMM) Chapter 04-00-00, Revision 12, Document 01975, dated May 14, 2010, for Models PC-6 B2-H2 and B2-H4 airplanes, and Pilatus PC-6 Airworthiness Limitations Section (ALS) document No. 02334, revision 1, dated May 14, 2010, for all other Model PC-6 airplanes. The actions described in this service information are intended to correct the unsafe condition identified in the MCAI.

FAA's Determination and Requirements of the Proposed AD

This product has been approved by the aviation authority of another country, and is approved for operation in the United States. Pursuant to our bilateral agreement with this State of Design Authority, they have notified us of the unsafe condition described in the MCAI and service information referenced above. We are proposing this AD because we evaluated all information and determined the unsafe condition exists and is likely to exist or develop on other products of the same type design.

Differences Between This Proposed AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have proposed different actions in this AD from those in the MCAI in order to follow FAA policies. Any such differences are highlighted in a Note within the proposed AD.

Costs of Compliance

We estimate that this proposed AD will affect 50 products of U.S. registry. We also estimate that it would take about 1 work-hour per product to comply with the basic requirements of this proposed AD. The average labor rate is $85 per work-hour.

Based on these figures, we estimate the cost of the proposed AD on U.S. operators to be $4,250, or $85 per product.

In addition, we estimate that any necessary follow-on actions based on maintenance requirements for the wing strut fittings and the spherical bearings following the Aircraft Maintenance Manual and the Airworthiness Limitations Section would take about 40 work-hours and require parts costing $12,000, for a cost of $15,400 per product. We have no way of determining the number of products that may need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-14221 (70 FR 47716; August 15, 2005), and adding the following new AD:

Pilatus Aircraft Ltd.: Docket No. FAA-2010-1011; Directorate Identifier 2010-CE-047-AD.

Comments Due Date

(a) We must receive comments by November 22, 2010.

Affected ADs

(b) This AD supersedes AD 2005-17-01, Amendment 39-14221.

Applicability

(c) This AD applies to Pilatus Aircraft Ltd. Models PC-6, PC-6-H1, PC-6-H2, PC-6/350, PC-6/350-H1, PC-6/350-H2, PC-6/A, PC-6/A-H1, PC-6/A-H2, PC-6/B-H2, PC-6/B1-H2, PC-6/B2-H2, PC-6/B2-H4, PC-6/C-H2, and PC-6/C1-H2 airplanes, all manufacturer serial number (MSN), and MSN 2001 through 2092, certificated in any category. These airplanes are also identified as Fairchild Republic Company PC-6 airplanes, Fairchild Industries PC-6 airplanes, Fairchild Heli Porter PC-6 airplanes, or Fairchild-Hiller Corporation PC-6 airplanes.

Subject

(d) Air Transport Association of America (ATA) Code 5: Time Limits.

Reason

(e) The mandatory continuing airworthiness information (MCAI) states:

The current Aircraft Maintenance Manual (AMM) of PC-6 B2-H2 and B2-H4 models does not include a Chapter 04 in the Airworthiness Limitations Section (ALS). For PC-6 models other than B2-H2 and B2-H4, no ALS at all is included in the AMM.

With the latest Revision 12 of the AMM, a new Chapter 04 has been introduced in the AMM for PC-6 B2-H2 and B2-H4 models.

For PC-6 models other than B2-H2 and B2-H4, a new ALS document has been implemented as well.

These documents include the Mandatory Continuing Airworthiness Information (MCAI) which are maintenance requirements and/or airworthiness limitations developed by Pilatus Aircraft Ltd and approved by EASA. Failure to comply with these MCAI constitutes an unsafe condition.

For the reasons described above, this MCAI requires the implementation and the compliance with these new maintenance requirements and/or airworthiness limitations documents.

Actions and Compliance

(f) Unless already done, before further flight after the effective date of this AD, incorporate the maintenance requirements as specified in Pilatus PC-6 AMM Chapter 04-00-00, Revision 12, Document Number 01975, dated May 14, 2010; and incorporate the Pilatus PC-6 ALS Document Number 02334, Revision 1, dated May 14, 2010, into your FAA-accepted maintenance program.

Note 1: The AMM revisions proposed in this AD action include the repetitive inspections for the wing strut fittings and the spherical bearings currently included in AD 2009-18-03. We are also proposing to remove those repetitive inspections from AD 2009-18-03, through a revision in another NPRM, Docket No. FAA-2009-0622.

FAA AD Differences

Note 2: This AD differs from the MCAI and/or service information as follows: No differences.

Other FAA AD Provisions

(g) The following provisions also apply to this AD:

(1) Alternative Methods of Compliance (AMOCs): The Manager, Standards Office, FAA, has the authority to approve AMOCs for this AD, if requested using the procedures found in 14 CFR 39.19. Send information to ATTN: Doug Rudolph, Aerospace Engineer, FAA, Small Airplane Directorate, 901 Locust, Room 301, Kansas City, Missouri 64106; telephone: (816) 329-4059; fax: (816) 329-4090. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act (44 U.S.C. 3501 et. seq.), the Office of Management and Budget (OMB) has approved the information collection requirements and has assigned OMB Control Number 2120-0056.

Related Information

(h) Refer to MCAI EASA AD No.: 2010-0176, dated August 20, 2010; and Pilatus PC-6 AMM Chapter 04-00-00, Revision 12, Document Number 01975, Revision 12, dated May 14, 2010; or in the Pilatus PC-6 ALS Document Number 02334, Revision 1, dated May 14, 2010, for related information.

Issued in Kansas City, Missouri, on September 30, 2010.
John Colomy,
Acting Manager, Small Airplane Directorate, Aircraft Certification Service.

[FR Doc. 2010-25288 Filed 10-6-10; 8:45 am]

BILLING CODE 4910-13-P